DEPARTMENT OF TRANSPORTATION

Federal Motor Carrier Safety Administration

[Docket No. FMCSA-2006-27393]

Agency Information Collection Activities; Request for Comments; Notice of Intent To Survey Motor Carriers Operating Small Passenger-Carrying Commercial Motor Vehicles

AGENCY: Federal Motor Carrier Safety Administration (FMCSA), DOT.

ACTION: Notice and request for comments.

SUMMARY: In accordance with the Paperwork Reduction Act of 1995, FMCSA announces that its Information Collection Request (ICR) described below has been sent to the Office of Management and Budget (OMB) for review and approval. The ICR describes a proposed collection activity involving all motor carriers who operate small passenger-carrying commercial motor vehicles (CMVs) and its expected cost and burden. A Federal Register notice allowing for a 60-day comment period on the ICR was published on December 8, 2006. FMCSA received four comments to this docket, but only one of those comments addressed the information collection process set forth in this notice. This comment was considered during the development of the survey for this information collection.

DATES: Comments must be submitted on or before May 7, 2007. OMB must receive your comments by this date to act quickly on the request.

ADDRESSES: Send comments to the Office of Information and Regulatory Affairs, Office of Management and Budget, 725 Seventeenth Street, NW., Washington, DC 20503, Attention: DOT/FMCSA Desk Officer.

FOR FURTHER INFORMATION CONTACT: Mr. Peter Chandler, Federal Motor Carrier Safety Administration, Office of Enforcement and Compliance, Commercial Passenger Carrier Safety Division, Washington, DC 20590, phone (202) 366-5763, fax (202) 366-3621, e-mail peter.chandler@dot.gov. Office hours are from 8 a.m. to 4 p.m., e.t., Monday through Friday, except Federal holidays.

SUPPLEMENTARY INFORMATION: Section 212 of the Motor Carrier Safety Improvement Act of 1999 (MCSIA) [Pub. L. 106-159, 113 Stat. 1748, 1766 (December 9, 1999)] expanded FMCSA's statutory authority to ensure the safe operation of small passenger vehicle carriers operating in long-haul, interstate transportation. In response to this congressional mandate, FMCSA published a final rule in the Federal Register (68 FR 47860; August 12, 2003) entitled, “Safety Requirements for Operators of Small Passenger-Carrying Commercial Motor Vehicles Used in Interstate Commerce,” to require motor carriers operating CMVs, designed or used to transport between 9 and 15 passengers (including the driver), in interstate commerce, to comply with parts 391 through 396 of the Federal Motor Carrier Safety Regulations (FMCSRs) when they are directly compensated for such services, and the vehicle is operated beyond a 75 air-mile radius from the driver's normal work-reporting location. As a result of the 2003 rule, these motor carriers are now subject to the same safety requirements as motor coach operators, except for the commercial driver's license (CDL), and controlled substances and alcohol testing regulations. Affected motor carriers were required to be in compliance with such regulations by December 10, 2003 (see 68 FR 61246; date of publication October 27, 2003).

Section 4136 of the Safe, Accountable, Flexible, Efficient Transportation Equity Act: A Legacy For Users (SAFETEA-LU) [Public Law 109-59, 119 Stat. 1144, 1745 (Aug. 10, 2005)] directed FMCSA to remove the 75 air-mile radius standard set forth in MCSIA. This congressional mandate or change would result in a greater number of motor carriers that operate small passenger-carrying CMVs being subject to the FMCSRs. To effectively inform this segment of the motor carrier passenger industry of the regulatory requirements that they will be subject to, and to assist the agency in administering an effective educational outreach program to this entire industry segment, FMCSA intends to conduct a survey to obtain information about all of these motor passenger carrier operations.

Because certain motor carriers that operate small passenger-carrying CMVs will have new regulatory requirements as a result of the section 4136 provision of SAFETEA-LU, FMCSA wants to learn more about the safety and/or regulatory compliance challenges of this industry segment. There is no motor carrier industry association that is comprised mostly of companies that primarily operate between 9-15 passenger-carrying commercial motor vehicles. This makes obtaining information about this industry segment more difficult and necessitates the assistance of a researcher to obtain information needed by FMCSA to effectively provide outreach to these passenger carriers. FMCSA will obtain a research contractor to collect information about motor carriers with small passenger-carrying CMV operations. The research contractor will collect information through approximately 50 telephone interviews and 8 site visits at places of business. A copy of the telephone survey instrument was placed in the docket. Information obtained from the study will provide insight into the common safety and regulatory compliance challenges facing motor carriers with small passenger-carrying CMV operations. Such information will also be utilized by FMCSA to develop educational outreach initiatives for the affected industry segment. It is appropriate that FMCSA connect with and inform this segment of the motor carrier industry of its regulatory compliance responsibilities before implementing an enforcement program. Any information obtained will help identify specific areas of regulatory compliance that are problematic for this industry segment. In addition, the questions of the telephone survey instrument address safety issues that preliminary research shows are pertinent to motor carriers with small passenger-carrying CMV operations. Useful information about these safety issues could be included in outreach materials for the benefit of the industry. The survey will also obtain needed insight about how to best provide and distribute information to the affected industry segment.

Title: Survey of Motor Carriers with Small Passenger-Carrying CMV Operations.

Type of Information Collection Request: New one-time survey/information collection.

Respondents: For-hire motor carriers that operate between 9-15 passenger-carrying commercial motor vehicles in interstate commerce.

Estimated Number of Respondents: 50 motor carriers.

Estimated Time per Response: 30 minutes for each telephone survey.

Frequency of Response: One time.

Estimated Total Annual Burden: 25 hours. The estimated total burden is 25 hours for the information collection based upon an acceptable level of statistical significance and a confidence interval of 13.6 percent [(50 responses × 30 minutes per response)/60 minutes = 25 hours].

We particularly request comments on the necessity and usefulness of the information collection for the proper performance of the functions of FMCSA and specifically the regulatory oversight of small passenger-carrying commercial motor vehicle operations; the accuracy of the estimated burden of collected information; suggestions to enhance the quality, utility, and clarity of the collected information; and suggestions to minimize the collection burden on respondents, including using automated collection techniques or other forms of information technology.

Issued on: March 29, 2007.
Rose A. McMurray,
Chief Safety Officer, Assistant Administrator.

[FR Doc. E7-6427 Filed 4-5-07; 8:45 am]

BILLING CODE 4910-EX-P